EXPORT-IMPORT BANK OF THE UNITED STATES

Economic Impact Policy

This notice is to inform the public that the Export-Import Bank of the United States has received an application to finance approximately $260 million for the U.S. export of approximately $268 million worth of power equipment and services to a buyer in the United Arab Emirates (UAE). The U.S. exports will enable the UAE company to produce aluminum. Production is scheduled to commence in 2010, with full production beginning in 2011. The UAE company will have an initial production capacity of 718,000 metric tons of aluminum per year, with efficiency gains expected to increase production capacity up to 750,000 metric tons per year. The total value of the aluminum producing facility is estimated to be $7.2 billion. It is envisioned this new aluminum production will be primarily sold to customers in Algeria, Bahrain, Egypt, Germany, Japan, South Korea, Libya, Malaysia, Saudi Arabia, Singapore, Thailand, Taiwan, and Vietnam. Some of the new aluminum will also be sold domestically within the UAE. Interested parties may submit comments on this transaction by email to economic.impact@exim.gov or by mail to 811 Vermont Avenue, NW., Room 1238, Washington, DC 20571, within 14 days of the date this notice appears in the Federal Register.

Helene S. Walsh,
Vice President, Policy Analysis Division.

[FR Doc. E9-23609 Filed 9-30-09; 8:45 am]

BILLING CODE 6690-01-P